DEPARTMENT OF HEALTH AND HUMAN SERVICES

National Institutes of Health

Center for Scientific Review; Amended Notice of Meeting

Notice is hereby given of a change in the meeting of the Language and Communication Study Section, October 4, 2010, 8 a.m. to October 5, 2010, 5 p.m., Ritz Carlton Hotel, 1150 22nd Street, NW., Washington, DC 20037 which was published in the Federal Register on August 25, 2010, 75 FR 52357.

The meeting will be one day only October 4, 2010. The meeting time and location remain the same. The meeting is closed to the public.

Dated: August 26, 2010.
Jennifer S. Spaeth,
Director, Office of Federal Advisory Committee Policy.

[FR Doc. 2010-22090 Filed 9-2-10; 8:45 am]

BILLING CODE 4140-01-P